DEPARTMENT OF AGRICULTURE

Forest Service

Acker Fire Salvage, Umpqua National Forest, Douglas County, OR

AGENCY: Forest Service, USDA.

ACTION: Cancellation notice.

SUMMARY: On June 24, 2003, a Notice of Intent (NOI) to prepare an environmental impact statement (EIS) for the Acker Fire Salvage on the Tiller Ranger District of the Umpqua National Forest, was published in the Federal Register (68 FR 37451). Forest Service has decided to cancel the preparation of this EIS. The NOI is hereby rescinded.

FOR FURTHER INFORMATION CONTACT: Questions maybe addressed to Alan Baumann, Timber Management Assistant, Tiller Ranger District, 27812 Tiller Trail Highway, Tiller, OR 97484, telephone: 541-825-3201.

Dated: September 9, 2003.
James A. Caplan,
Forest Supervisor.

[FR Doc. 03-23824 Filed 9-17-03; 8:45 am]

BILLING CODE 3410-11-M